DEPARTMENT OF COMMERCE

National Oceanic and Atmospheric Administration

50 CFR Part 648

[RTID 0648-XB117]

Fisheries of the Northeastern United States; Summer Flounder Fishery; Quota Transfers From NC to MA and VA to NJ

AGENCY: National Marine Fisheries Service (NMFS), National Oceanic and Atmospheric Administration (NOAA), Commerce.

ACTION: Notification of quota transfer.

SUMMARY: NMFS announces that the State of North Carolina and the Commonwealth of Virginia are transferring a portion of their 2021 commercial summer flounder quota to the Commonwealth of Massachusetts and to the State of New Jersey, respectively. This adjustment to the 2021 fishing year quota is necessary to comply with the Summer Flounder, Scup, and Black Sea Bass Fishery Management Plan quota transfer provisions. This announcement informs the public of the revised 2021 commercial quotas for North Carolina, Massachusetts, Virginia, and New Jersey.

DATES: Effective June 21, 2021 through December 31, 2021.

FOR FURTHER INFORMATION CONTACT: Laura Hansen, Fishery Management Specialist, (978) 281-9225.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102 and final 2021 allocations were published on December 21, 2020 (85 FR 82946).

The final rule implementing Amendment 5 to the Summer Flounder Fishery Management Plan (FMP), as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider three criteria in the evaluation of requests for quota transfers or combinations: The transfer or combinations would not preclude the overall annual quota from being fully harvested; the transfer addresses an unforeseen variation or contingency in the fishery; and the transfer is consistent with the objectives of the FMP and the Magnuson-Stevens Fishery Conservation and Management Act. The Regional Administrator has determined these three criteria have been met for the transfer approved in this notification.

North Carolina is transferring 9,980 lb (4,527 kg) to Massachusetts and Virginia is transferring 9,800 lb (4,445 kg) to New Jersey through mutual agreement of the states. These transfers were requested to repay landings made by out-of-state permitted vessels under safe harbor agreements. The revised summer flounder quotas for 2021 are: North Carolina, 2,974,923 lb (1,349,402 kg); Massachusetts, 1,025,159 lb (465,004 kg); Virginia, 2,389,776 lb (210,922 kg); and, New Jersey, 1,970,862 lb (893,968 kg).

Authority: 16 U.S.C. 1801 et seq.

Dated: June 16, 2021.
Jennifer M. Wallace,
Acting Director, Office of Sustainable Fisheries, National Marine Fisheries Service.

[FR Doc. 2021-13078 Filed 6-21-21; 8:45 am]

BILLING CODE 3510-22-P